NUCLEAR REGULATORY COMMISSION

Advisory Committee on Reactor Safeguards

Subcommittee Meeting on Safeguards and Security; Notice of Meeting

The ACRS Subcommittee on Safeguards and Security will hold a closed meeting on May 21-23, 2003, Sandia National Laboratories, Albuquerque, New Mexico.

The entire meeting will be closed to public attendance to protect information classified as national security information pursuant to 5 U.S.C. 552b(c)(1).

The agenda for the subject meeting shall be as follows:

Wednesday, Thursday and Friday, May 21-23, 2003—8:30 a.m. until the conclusion of business

The Subcommittee will hear presentations from representatives of the NRC staff, NRC staff consultants and industry on the performance of risk-informed vulnerability assessments. The purpose of this meeting is to gather information, analyze relevant issues and facts, and formulate proposed positions and actions, as appropriate, for deliberation by the full Committee.

Further information contact: Mr. Richard K. Major (telephone: (301) 415-7366) or Dr. Richard P. Savio (telephone: (301) 415-7363) between 7:30 a.m. and 4:15 p.m. (ET).

Dated: May 5, 2003.
Sher Bahadur,
Associate Director for Technical Support, ACRS/ACNW.

[FR Doc. 03-11701 Filed 5-9-03; 8:45 am]

BILLING CODE 7590-01-P